DEPARTMENT OF TRANSPORTATION

Federal Aviation Administration

RTCA Program Management Committee

Pursuant to section 10(a)(2) of the Federal Advisory Committee Act (Pub. L. 92-463, 5 U.S.C., Appendix 2), notice is hereby given for Programs Management Committee meeting to be held September 13, 2000, starting at 9:00 a.m. The meeting will be held at RTCA, Inc., 1140 Connecticut Avenue, NW, Suite 1020, Washington, DC 20036.

The agenda will include: (1) Welcome and Introductory Remarks; (2) Review/Approve Summary of Previous Meeting; (3) Publication Consideration/Approval: (a) Final Draft, Minimum Aviation System Performance Standards: Required Navigation Performance for Area Navigation, (RTCA Paper No. 229-00/PMC-100, prepared by SC-181); (b) Final Draft, Minimum Operational Performance Standards for the Depiction of Navigation Information on Electronic Maps, (RTCA Paper No. 230-00/PMC-101, prepared by SC-181); (c) Final Draft, DO-248A, Second Annual Report for Clarification of DO-178b “Software Considerations In Airborne Systems and Equipment Certification”, (RTCA Paper No. 174-00/SC190-072, prepared by SC-190). (d) Final Draft, Interoperability Requirements for ATS Applications Using ARINC 622 Data Communications, (RTCA Paper No. 223-00/PMC-098, prepared by SC-189); (e) Final Draft, Applications Descriptions for Initial Cockpit Display of Traffic Information (CDTI) applications (RTCA Paper No. 224-00/PMC-099, prepared by SC-186); (f) Final Draft, DO-224A, Signal-in-Space Minimum Aviation System Performance Standards (MADPS) for Advanced VHF Digital Data Communications Including Compatibility with Digital Voice Techniques, (RTCA Paper No. 241-00/PMC-103, prepared by SC-172); (g) Final Draft, Minimum Operational Performance Standards for 1090 MHz Automatic Dependent Surveillance—Broadcast (ADS-B), (RTCA Paper No. 242-00/PMC-104, prepared by SC-186); (4) Discussion: (a) Special Committee (SC)-188, High Frequency Data Link (HFDL); (b) SC-165 Work Program; (c) Document Production and PMC Meeting Schedule; (5) Action Item Review: (a) Action Item 00-01, Revised Document Guidance; (b) Action Item 00-05, SC-194, Chairmanship; (c) Action Item 00-06, SC-1186 Work Program Issues, (6) Other Business; (7) Date and Location of Next Meeting; (8) Closing.

Attendance is open to the interested public but limited to space availability. With the approval of the chairman, members of the public may present oral statements at the meeting. Persons wishing to present statements or obtain information should contact the RTCA Secretariat, 1140 Connecticut Avenue, NW., Suite 1020, Washington, DC 20036; (202) 883-9339 (phone); (202) 833-9334 (fax); or http://www.rtca.org (web site). Members of the public may present a written statement to the committee at any time.

Dated: Issued in Washington, DC, on August 24, 2000.
Janice L. Peters,
Designated Official.

[FR Doc. 00-22363 Filed 8-30-00; 8:45 am]

BILLING CODE 4910-13-M